EXPORT-IMPORT BANK OF THE U.S.

[Public Notice 2010-0058]

Agency Information Collection Activities: Final Collection; Comment Request

AGENCY: Export-Import Bank of the U.S.

ACTION: Submission for OMB Review and Comments Request.

Form Title: Application for Approved Finance Provider (EIB 10-06).

SUMMARY: The Export-Import Bank of the United States (Ex-Im Bank), as a part of its continuing effort to reduce paperwork and respondent burden, invites the general public and other Federal Agencies to comment on the proposed information collection, as required by the Paperwork Reduction Act of 1995.

The Application for Approved Finance Provider will be used to determine if the finance provider has the financial strength and administrative staff to originate, administer, collect, and if needed, restructure international loans. This application will also improve Ex-Im Bank' s compliance with the Open Government initiative by providing transparency into specific information used to determine if an applicant is qualified to use our loan guarantee programs. Export-Import Bank potential finance providers will be able to submit this form on paper. In the future, we will consider allowing the submission of this information electronically.

This application can be viewed at http://www.exim.gov/pub/pending/EIB10_06.pfd.

DATES: Comments should be received on or before January 28, 2011 to be assured of consideration.

ADDRESSES: Comments may be submitted electronically on http://www.regulations.gov or by mail to Jeffrey Abramson, Export-Import Bank of the United States, 811 Vermont Ave., NW., Washington, DC 20571.

SUPPLEMENTARY INFORMATION: Titles and Form Number: EIB 10-06 Application for Approved Finance Provider.

OMB Number: 3048-xxxx.

Type of Review: New.

Need and Use: The Application for Approved Finance Provider will be used to determine the financial and administrative capabilities of a financial provider who will arrange, fund and administer international loans.

Annual Number of Respondents: 50.

Estimated Time per Respondent: 3 hours.

Government Annual Burden Hours 8 hours.

Frequency of Reporting or Use: As needed.

Sharon A. Whitt,
Agency Clearance Officer.

[FR Doc. 2010-29909 Filed 11-26-10; 8:45 am]

BILLING CODE 6690-01-P